COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products to the Procurement List that will be furnished by the nonprofit agency employing persons who are blind or have other severe disabilities, and deletes products and services from the Procurement List previously furnished by such agencies.

DATES: Effective Date: 5/5/2014.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 12/13/2013 (78 FR 75911-75912) and 1/10/2014 (79 FR 1835-1836), the Committee for Purchase From People Who Are Blind or Severely Disabled published notices of proposed additions to the Procurement List.

“The Committee For Purchase From People Who Are Blind or Severely Disabled (Committee), established by the Javits-Wagner-O'Day (JWOD) Act, administers the AbilityOne Program pursuant to statutory (41 U.S.C. 8501, et seq.) and regulatory (41 CFR Chapter 51) authority. Comments from the contractors indicate that each provides similar eyewear products to those that are the subject of the PL addition and, as service-disabled veteran-owned small businesses (SDVOSB), they should be given the opportunity to provide these products to the Department of Veteran Affairs (VA). The contractors assert that the failure to allow them to provide these products to VA will cause them severe adverse impact. The commenters also maintain that VA did not follow its established internal procedures to add items to the AbilityOne PL under VA's Veterans First Initiative as outlined in a VA Departmental Information Letter and that adding these products to the PL violates a decision by the U.S. Court of Federal Claims (Court).

The Committee fully supports and contributes to employment opportunities for veterans and Wounded Warriors. The Committee recognizes that there are several statutory government contracting preference programs, including set-asides for SDVOSB concerns. The AbilityOne Program is also a statutory program that creates employment opportunities for people who are blind or severely disabled through the Federal procurement system. The Presidentially-appointed members of the Committee have a statutory responsibility to implement the JWOD Act and related government policy to increase employment opportunities for persons who are blind or severely disabled through the purchase of goods or services from qualified nonprofit agencies employing these individuals.

Before items are added to the PL and, in accordance with its regulations, the Committee must determine the suitability of products or services for procurement by the Government. In each instance, the Committee considers whether the addition is likely to have a severe adverse impact on the current contractor. In this case, none of the firms that submitted comments are the current contractor for the eyewear products at the locations being considered in this action; therefore, there is no severe adverse impact on the contractors for this particular PL addition.

The JWOD Act (41 U.S.C. 8503(a)) grants the Committee exclusive authority to establish, maintain and make changes to a procurement list of supplies and services provided by qualified nonprofit agencies for people who are blind or severely disabled. The Committee's authority is not constrained by internal processes and procedures of federal agencies regarding which supplies or services will be added to the PL.

The JWOD Act exists and continues to be implemented by the Committee, notwithstanding the VA's implementation of Public Law 109-461, the Veterans Benefits, Health Care, and Information Technology Act of 2006. Accordingly, the Committee concludes that it has the statutory responsibility to determine which items are suitable to be added to the PL and, therefore, disagrees that VA procedures or the Court decision cited by the firms precludes them from exercising the authority granted by the JWOD Act”.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products:

NSN: 6650-00-NIB-0009—Flat Top 28, Bifocal, Single Vision, Plastic, Clear

NSN: 6650-00-NIB-0010—Flat Top 28, Bifocal, Plastic, Clear

NSN: 6650-00-NIB-0011—Flat Top 35, Bifocal, Clear

NSN: 6650-00-NIB-0012—Clear Plastic Round 25 and Round 28

NSN: 6650-00-NIB-0013—Flat Top 7 x 28, Plastic, Clear

NSN: 6650-00-NIB-0014—Flat Top 8 x 35, Plastic, Clear

NSN: 6650-00-NIB-0015—Progressives, (VIP, Adaptar, Freedom, Image), Plastic, Clear

NSN: 6650-00-NIB-0016—Lenticular Aspheric, Single Vision, Plastic, Clear

NSN: 6650-00-NIB-0017—Flat Top-Round Aspheric Lenticular, Plastic, Clear

NSN: 6650-00-NIB-0018—Executive Bifocal, Plastic, Clear

NSN: 6650-00-NIB-0019—Single Vision, Glass, Clear

NSN: 6650-00-NIB-0020—Flat Top 28, Bifocal, Glass, Clear

NSN: 6650-00-NIB-0021—Flat Top 35, Bifocal, Glass, Clear

NSN: 6650-00-NIB-0022—Flat Top 7 x 28, Trifocal, Glass, Clear

NSN: 6650-00-NIB-0023—Flat Top 8 x 35, Trifocal, Glass, Clear

NSN: 6650-00-NIB-0024—Progressives, (VIP, Adaptar, Freedom), Glass, Clear

NSN: 6650-00-NIB-0025—Executive Bifocal, Glass, Clear

NSN: 6650-00-NIB-0026—Single Vision, Polycarbonate, Clear

NSN: 6650-00-NIB-0027—Flat Top 28, Bifocal, Polycarbonate, Clear

NSN: 6650-00-NIB-0028—Flat Top 35, Bifocal, Polycarbonate, Clear

NSN: 6650-00-NIB-0029—Flat Top 7 x 28, Trifocal, Polycarbonate, Clear

NSN: 6650-00-NIB-0030—Flat Top 8 x 35, Trifocal, Polycarbonate, Clear

NSN: 6650-00-NIB-0031—Progressives (VIP, Adaptar, Freedom, Image), Polycarbonate

NSN: 6650-00-NIB-0032—Single Vision, Plastic, Clear

NSN: 6650-00-NIB-0033—Flat Top 28, Bifocal, Plastic, Clear

NSN: 6650-00-NIB-0034—Flat Top 35, Bifocal, Plastic, Clear

NSN: 6650-00-NIB-0035—Round 25 and 28, Bifocal, Plastic, Clear

NSN: 6650-00-NIB-0036—Flat Top 7 x 28, Trifocal, Plastic, Clear

NSN: 6650-00-NIB-0037—Flat Top 8 x 35, Trifocal, Plastic, Clear

NSN: 6650-00-NIB-0038—Progressives, Plastic, Clear

NSN: 6650-00-NIB-0039—SV, Aspheric, Lenticular, Plastic, Clear

NSN: 6650-00-NIB-0040—FT or round aspheric lenticular, Plastic, Clear

NSN: 6650-00-NIB-0041—Bifocal, Executive, Plastic, Clear

NSN: 6650-00-NIB-0042—Single Vision, Glass, Clear

NSN: 6650-00-NIB-0043—Flat Top 28, Bifocal, Glass, Clear

NSN: 6650-00-NIB-0044—Flat Top 35, Bifocal, Glass, Clear

NSN: 6650-00-NIB-0045—Flat Top 7 x 28, Trifocal, Glass, Clear

NSN: 6650-00-NIB-0046—Flat Top 8 x 35, Trifocal, Glass, Clear

NSN: 6650-00-NIB-0047—Progressives (VIP, Adaptar, Freedom), Glass, Clear

NSN: 6650-00-NIB-0048—Bifocal, Executive, Glass, Clear

NSN: 6650-00-NIB-0049—Single Vision, Polycarbonate, Clear

NSN: 6650-00-NIB-0050—Flat Top 28, Polycarbonate, Clear

NSN: 6650-00-NIB-0051—Flat Top 35, Bifocal, Polycarbonate, Clear

NSN: 6650-00-NIB-0052—Flat Top 7 x 28, Trifocal, Polycarbonate, Clear

NSN: 6650-00-NIB-0053—Flat Top 8 x 35, Trifocal, Polycarbonate, Clear

NSN: 6650-00-NIB-0054—Lenses, Progressives (VIP, Adaptar, Freedom, Image), Polycarbonate

NSN: 6650-00-NIB-0055—Transition, Plastic, CR-39

NSN: 6650-00-NIB-0056—Photochromatic/Transition, (Polycarbonate Material)

NSN: 6650-00-NIB-0057—Photogrey (glass only)

NSN: 6650-00-NIB-0058—High Index transition (CR 39)

NSN: 6650-00-NIB-0059—Anti-reflective Coating (CR 39 and polycarbonate)

NSN: 6650-00-NIB-0060—Ultraviolet Coating (CR 39)

NSN: 6650-00-NIB-0061—Polarized Lenses (CR 39)

NSN: 6650-00-NIB-0062—Slab-off (polycarbonate, CR 39: trifocal and bifocal

NSN: 6650-00-NIB-0063—High Index (CR-39)

NSN: 6650-00-NIB-0064—Prism (up to 6 diopters no charge) > 6 diopters/diopter

NSN: 6650-00-NIB-0065—Diopter + or—9.0 and above

NSN: 6650-00-NIB-0066—Lenses, oversize eye, greater than 58, excluding progressive.

NSN: 6650-00-NIB-0067—Hyper 3 drop SV, multifocal (CR 39)

NSN: 6650-00-NIB-0068—Add powers over 4.0

NSN: 6650-00-NIB-0069—Plastic or Metal

Contracting Activity: Department Of Veterans Affairs, 248-Network Contracting Office 8, Tampa, FL

NPA: Winston-Salem Industries for the Blind, Inc., Winston-Salem, NC

Coverage: C-List for 100% of the requirements of Bay Pines Healthcare System, Bay Pines, FL and the James A. Haley Veterans Hospital, Tampa, FL as aggregated by Network Contracting Office 8, Tampa, FL

Deletions

On 2/14/2014 (79 FR 8943-8944), 2/21/2014 (79 FR 9893-9894), and 2/28/2014 (79 FR 11422-11423), the Committee for Purchase From People Who Are Blind or Severely Disabled published notices of proposed deletions from the Procurement List.

After consideration of the relevant matter presented, the Committee has determined that the products and services listed below are no longer suitable for procurement by the Federal Government under 41 USC 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

Bag, Plastic

NSN: 8105-LL-N77-1370

NSN: 8105-LL-N78-1252

NSN: 8105-LL-N86-0770

NSN: 8105-LL-N86-0771

NSN: 8105-LL-N89-0073

NSN: 8105-LL-N89-0075

NSN: 8105-LL-N91-2391

NSN: 8105-LL-N91-2392

NSN: 8105-LL-N91-2393

NSN: 8105-LL-N91-2394

NPA: UNKNOWN

Contracting Activity: Dept. of the Navy, US Fleet Forces Command, Norfolk, VA

Services

Service Type/Locations:

Grounds Maintenance Service, U.S. Army Reserve Center: Mifflin County, 73 Reserve Lane, Lewiston, PA.

Sgt. Paul Beck AFRC, 987 East Bishop St., Bellefonte, PA.

U.S. Army Reserve Center, Centre County, 1250 Fox Hollow Rd., State College, PA.

U.S. Army Reserve Center: Buildings 1 and 5, 2997 North Second Street, Harrisburg, PA.

U.S. Army Reserve Center: Lenkalis, 250 Washington Avenue, West Hazelton, PA.

Service Type/Location: Janitorial/Custodial Service, U.S. Army Reserve Center, 1545 Airport Road, Franklin, PA.

NPA: Unknown.

Contracting Activity: Dept. Of The Army, W40m Natl Region Contract Ofc, Fort Belvoir, VA.

Barry S. Lineback,
Director, Business Operations.

[FR Doc. 2014-07544 Filed 4-3-14; 8:45 am]

BILLING CODE 6353-01-P